DEPARTMENT OF COMMERCE

International Trade Administration

Notice of an Opportunity To Apply for Membership on the United States Investment Advisory Council; Correction

AGENCY: SelectUSA, United States Investment Advisory Council (IAC), International Trade Administration, Department of Commerce.

ACTION: Notice; correction.

SUMMARY: The International Trade Administration, Department of Commerce published a document in the Federal Register on May 17, 2021 concerning the notice of an opportunity to apply for membership on the Investment Advisory Council. Corrections were made to the deadline for submitting information for consideration serve on the IAC.

DATES: Applications for immediate consideration for membership must be received by the Office of SelectUSA by 5:00 p.m. Eastern Daylight Time (EDT) on Monday, August 2, 2021. The International Trade Administration will continue to accept applications under this notice for two years from the deadline to fill any vacancies.

ADDRESSES: Please submit application information by email to IAC@trade.gov.

FOR FURTHER INFORMATION CONTACT: Rachel David, SelectUSA, U.S. Department of Commerce; telephone: (202) 302-6858; email: IAC@trade.gov.

SUPPLEMENTARY INFORMATION:

Correction

In the Federal Register of May 17, 2021, in FR Doc. 2021-10358, on page 26696, in the third column, fifth paragraph under DATES correct the caption to read: Applications for immediate consideration for membership must be received by the Office of SelectUSA by 5:00 p.m. Eastern Daylight Time (EDT) on Monday, August 2, 2021. The International Trade Administration will continue to accept applications under this notice for two years from the deadline to fill any vacancies.

William Burwell,
Deputy Executive Director, SelectUSA.

[FR Doc. 2021-14608 Filed 7-7-21; 8:45 am]

BILLING CODE 3510-DR-P